DEPARTMENT OF AGRICULTURE

Forest Service

Kuiu Timber Sale Environmental Impact Statement

AGENCY: Forest Service, USDA.

ACTION: Notice of Intent to Prepare an Environmental Impact Statement.

SUMMARY: The Department of Agriculture, Forest Service, will prepare an Environmental Impact Statement (EIS) on a proposal to harvest timber and to develop a road management plan for the Kuiu Timber Sale on north-central Kuiu Island, on the Petersburg Ranger District, Tongass National Forest. The proposed action provides for multiple timber sale opportunities and will result in the production of approximately 35 million board feet (mmbf) of timber from approximately 1,270 acres of forested land. Up to 15 miles of temporary road may be necessary for timber harvest; no new permanent roads would be constructed. A range of alternatives, responsive to significant issues, will be developed and will include a no action alternative. The Rowan Bay LTF will be used. This project is within the Kuiu biogeographic province. The Record of Decision will disclose whether and where the Forest Supervisor has decided to provide timber harvest units, roads and associated timber harvesting facilities.

DATES: An initial letter outlining the project timeline and public involvement opportunities was distributed during February 2004. A scoping letter will be mailed January of 2005. Individuals who want to receive this mailing should contact the Petersburg Ranger District at the following address. The Draft Environmental Impact Statement is projected to be filed with the Environmental Protection Agency (EPA) in the fall of 2004 and will begin a 45-day public comment period. The Final Environmental Impact Statement and Record of Decision are scheduled to be published in the spring of 2005.

ADDRESSES: Please send written comments to the Petersburg Ranger District, Tongass National Forest, Attn: Kuiu Timber Sale EIS, PO Box 1328, Petersburg, AK 99833. The Fax number is (907) 772-5995.

FOR FURTHER INFORMATION CONTACT: Questions about the proposal and EIS should be directed to Patricia Grantham, District Ranger, Petersburg Ranger District, Tongass National Forest, PO Box 1328, Petersburg, AK 99833, telephone (907) 772-3871, or Kris Rutledge, Interdisciplinary Team Leader, Petersburg Ranger District, PO Box 1328, Petersburg, AK 99833, telephone (907) 772-3871.

SUPPLEMENTARY INFORMATION:

Background

The 46,100-acre Kuiu project area is located within Value Comparison Units 399, 400, 402, and 421 on Kuiu Island, Alaska, on the Petersburg Ranger District of the Tongass National Forest. A portion of one Inventoried Roadless Areas, North Kuiu #241, as identified by the Forest Plan and SEIS, is located within the project area. The project area includes one small old-growth habitat reserve as designated in the Forest Plan. There will be no proposed timber harvest in areas of Old-Growth Reserve management prescriptions. However, roads may be proposed through Old-Growth reserves to access suitable and available forestland outside the reserves. A Forest Plan amendment would be required if a decision is made to modify the old-growth habitat reserve boundary associated with this project.

The purpose and need for the proposed action responds to the goals and objectives identified by the Tongass Land Management Plan, as amended, and helps move the area toward the desired conditions as described in the forest plan. The Forest Supervisor is the Responsible Official for this action and will decide whether or not to harvest timber from the Kuiu Timber Sale area, and if so, how this timber will be harvested. The decision will be based on the information that is disclosed in the environmental impact statement.

The responsible official will consider comments, responses, the disclosure of environmental consequences, and applicable laws, regulations, and policies in making the decision and will state that rationale in the Record of Decision.

The Forest Plan goals and objectives applicable to the Kuiu Project Area include:

• Provisions for a vigorous and healthy forest environment, including management of timber resource for production of sawtimber and other wood products from suitable lands made available for timber harvest on an even-flow, long-term sustained yield basis, and in an economically efficient manner.

• Provisions for current and future habitat needs of endemic wildlife species, maintenance and enhancement of current riparian conditions.

• Provisions for a diversity of opportunities for resource uses that contribute to the local and regional economies of Southeast Alaska to support a wide range of natural-resource employment opportunities within Southeast Alaska's communities.

• Ensures the Forest Service acts in a responsible manner by providing a timber supply sufficient to meet the annual market demand for the Tongass National Forest and the demand for the planning cycle while maintaining a Forest-wide system of old-growth forest habitat to sustain old-growth associated species and resources and ensures that the reserve system meets the minimum size, spacing, and composition criteria.

Public Participation

Public participation has been an integral component of the study process and will continue to be especially important at several points during the analysis. The Forest Service will be seeking information, comments, and assistance from Tribal Governments, Federal, State, and Local agencies, individuals and organizations that may be interested in, or affected by, the proposed activities. Written scoping comments have been solicited through an informal scoping package that was sent to the project mailing list and will be available at open houses in Petersburg, Alaska and Kake, Alaska. The scoping process includes: (1) Identification of potential issues; (2) identification of issues to be analyzed in depth; and (3) elimination of non-significant issues or those which have been covered by a previous environmental review. Tentative issues identified for analysis in the EIS include the potential effects of the project on, and the relationship of the project to, the old-growth habitat reserve system, roadless areas and timber sale economics.

Based on results of scoping and the resource capabilities within the project area, alternatives, including a “no action” alternative, will be developed for the Draft Environmental Impact Statement. Subsistence hearings, as provided for in Title VIII, Section 810 of the Alaska National Interest Lands Conservation Act (ANILCA), will be conducted, if necessary, during the comment period on the Draft Environmental Impact Statement.

The comment period on the draft environmental impact statement will be 45 days from the date the Environmental Protection Agency published the notice of availability in the Federal Register.

The Forest Service believes, at this early stage, it is important to give reviewers notice of several court rulings related to public participation in the environmental review process. First, reviewers of Draft Environmental Impact Statements must structure their participation in the environmental review of the proposal so that it is meaningful and alerts an agency to the reviewer's position and contentions. Vermont Yankee Nuclear Power Corp. v. NRDC, 435 U.S. 519, 553, (1978). Also environmental objections that could be raised at the Draft Environmental Impact Statement stage but are not raised until after completion of the final environmental impact statement may be waived or dismissed by the courts. City of Angoon v. Hodel, 803 F.2nd 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the Final Environmental Impact Statement.

To assist the Forest Service in identifying and considering issues and concerns of the proposed action, comments during scoping and comments on the Draft Environmental Impact Statement should be as specific as possible. It is also helpful if comments refer to specific pages or chapters of the Draft Environmental Impact Statement. Comments may also address the adequacy of the Draft Environmental Impact Statement or the merits of the alternatives formulated and discussed in the statement. Reviewers may wish to refer to the Council on Environmental Quality Regulations for implementing the procedural provisions of the National Environmental Policy Act at 40 CFR 1503.3 in addressing these points. Comments received in response to this solicitation, including names and addresses of those who comment, will be considered part of the public record on this proposed action and will be available for public inspection. Comments submitted anonymously will be accepted and considered; however, those who submit anonymous comments will not have standing to appeal the subsequent decision under 36 CFR Parts 215 or 217. Additionally, pursuant to 7 CFR 1.27(d), any person may request the agency to withhold a submission from the public record by showing how the Freedom of Information Act (FOIA) permits such confidentiality. Requesters should be aware that, under FOIA, confidentiality may be granted in only very limited circumstances, such as to protect trade secrets. The Forest Service will inform the requester of the agency's decision regarding the request for confidentiality, and where the request is denied, the agency will return the submission and notify the requester that the comments may be resubmitted with or without name and address within 7 days.

Permits

Permits required for implementation include the following:

1. U.S. Army Corps of Engineers

• Approval of discharge of dredged or fill material into the waters of the United States under Section 404 of the Clean Water Act;

• Approval of the construction of structures or work in navigable waters of the United States under Section 10 of the Rivers and Harbors Act of 1899;

2. Environmental Protection Agency

• General National Pollutant Discharge Elimination System Permit for Log Transfer Facilities in Alaska;

• Review Spill Prevention Control and Countermeasure Plan;

3. State of Alaska, Department of Natural Resources

• Tideland Permit and Lease or Easement;

• Certification of Compliance with Alaska Water Quality Standards (401 Certification) Chapter 20;

4. Office of Project Management & Permitting (DNR)

• Coastal Zone Consistency Determination concurrence;

5. State of Alaska, Department of Environmental Conservation

• Solid Waste Disposal Permit.

Responsible Official

Forrest Cole, Forest Supervisor, Tongass National Forest, Federal Building, Ketchikan, Alaska 99901, is the responsible official. The responsible official will consider the comments, responses, disclosure of environmental consequences, and applicable laws, regulations, and policies in making the decision and state the rationale in the Record of Decision.

(Authority: 40 CFR 1501.7 and 1508.22; Forest Service Handbook 1909.15, Section 21)
Dated: August 3, 2004.
Forrest Cole,
Forest Supervisor.

[FR Doc. 04-18915 Filed 8-17-04; 8:45 am]

BILLING CODE 3410-11-P